DEPARTMENT OF THE INTERIOR

Fish and Wildlife Service

Cross Creeks National Wildlife Refuge

AGENCY: Fish and Wildlife Service, Interior.

ACTION: Notice of intent to prepare a Comprehensive Conservation Plan and Environmental Assessment for Cross Creeks National Wildlife Refuge in Stewart County, Tennessee.

SUMMARY: This notice advises the public that the Fish and Wildlife Service, Southeast Region, intends to gather information necessary to prepare a comprehensive conservation plan and environmental assessment pursuant to the National Environmental Policy Act of 1969 and its implementing regulations. The National Wildlife Refuge System Administration Act of 1966, as amended by the National Wildlife Refuge System Improvement Act of 1997, requires the Service to develop a comprehensive conservation plan for each national wildlife refuge. The purpose in developing a comprehensive conservation plan is to provide refuge managers with a 15-year strategy for achieving refuge purposes and contributing toward the mission of the National Wildlife Refuge System, consistent with sound principles of fish and wildlife management, conservation, legal mandates, and Service policies. In addition to outlining broad management direction on conserving wildlife and their habitats, plans identify wildlife-dependent recreational opportunities available to the public, including opportunities for hunting, fishing, wildlife observation, wildlife photography, and environmental education and interpretation.

The purpose of this notice is to achieve the following:

(1) Advise other agencies and the public of our intentions, and

(2) Obtain suggestions and information on the scope of issues to include in the environmental document.

DATES: To ensure consideration, written comments must be received no later than February 20, 2007.

ADDRESSES: Address comments, questions, and requests for more information to Cross Creeks National Wildlife Refuge, 643 Wildlife Drive, Dover, Tennessee 37058; Telephone: 931/232-7477.

SUPPLEMENTARY INFORMATION: Open house style meeting(s) will be held throughout the scoping phase of the comprehensive conservation plan development process. Special mailings, newspaper articles, and other media announcements will be used to inform the public and state and local government agencies of the opportunities for input throughout the planning process. All comments received become part of the official public record. Requests for such comments will be handled in accordance with the Freedom of Information Act.

Cross Creeks National Wildlife Refuge was established in 1962 as mitigation for the U.S. Army Corps of Engineers Lake Barkley Project. Refuge objectives are to: Provide habitat for migratory birds, especially waterfowl; provide habitat and protection for threatened and endangered species (e.g., bald eagles, gray bats, Indiana bats, and least terns); provide wildlife-dependent recreation for the public; and provide environmental education for students, faculty, and the private sector.

The 8,862-acre refuge occupies 12.5 river miles of the middle transition portion of the Cumberland River (Lake Barkley Reservoir) between Cheatham Dam in Tennessee and Barkley Dam in Kentucky.

Authority: This notice is published under the authority of the National Wildlife Refuge System Improvement Act of 1997, Public Law 105-57.

Dated: October 25, 2006.
Cynthia K. Dohner,
Acting Regional Director.

[FR Doc. E6-22466 Filed 12-29-06; 8:45 am]

BILLING CODE 4310-55-P